DEPARTMENT OF ENERGY

Federal Energy Regulatory Commission

[Project No. 1121-134]

Pacific Gas and Electric Company; Notice of Application Accepted for Filing and Soliciting Comments, Motions To Intervene, and Protests

Take notice that the following hydroelectric application has been filed with the Commission and is available for public inspection:

a. Application Type: Application for Temporary Variance of Ramping Rate Requirements.

b. Project No: 1121-134.

c. Date Filed: March 17, 2022.

d. Applicant: Pacific Gas and Electric (licensee).

e. Name of Project: Battle Creek Hydroelectric Project.

f. Location: The project is located on the mainstem Battle Creek and the North Fork and South Fork Battle Creek in Shasta and Tehama counties, California.

g. Filed Pursuant to: Federal Power Act, 16 U.S.C. 791a-825r.

h. Applicant Contact: Shelby McArthur, License Coordinator; Pacific Gas and Electric Company; Mail Code N11D, P.O. Box 770000, San Francisco, CA 94177; Phone: (530) 215-7825.

i. FERC Contact: Erich Gaedeke, (503) 552-2718, Erich.Gaedeke@ferc.gov.

j. Deadline for filing comments, motions to intervene, and protests: May 31, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-1121-134. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests approval to temporarily remove its ramping rate requirements under Article 33(d) to perform low level outlet gate testing at North Battle Creek Dam during the months with no minimum flow requirement (November-March). The licensee is required by the California Division of Safety of Dams (DSOD) to conduct the testing annually and in the presence of DSOD every three years. Temporary removal of its ramping rate requirements would allow the licensee to perform the testing in a significantly shorter amount of time than with ramping rate requirements in place. Accordingly, the licensee is requesting the temporary ramping rate variance from November 1, 2022 through March 31, 2023 to allow sufficient time and flexibility for scheduling and conducting the test. The gate full travel test will result in approximately 40 cubic feet per second entering North Fork Battle Creek and remain in the creek until it reaches Macumber Reservoir. No species of special concern are located in the reach directly below North Battle Creek Dam that would be affected by the testing.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. At this time, the Commission has suspended access to the Commission's Public Reference Room, due to the proclamation declaring a National Emergency concerning the Novel Coronavirus Disease (COVID-19), issued by the President on March 13, 2020. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 29, 2022.
Kimberly D. Bose,
Secretary.

[FR Doc. 2022-09635 Filed 5-4-22; 8:45 am]

BILLING CODE 6717-01-P